DEPARTMENT OF ENERGY

Federal Energy Regulatory Commission

Notice of Request To Transfer License and Soliciting Comments, Motions To Intervene, and Protests

May 2, 2000.

Take notice that the following application has been filed with the Commission and is available for public inspection:

a. Type of Application: Request for Approval to Transfer License.

b. Project No.: 7352-024.

c. Date Filed: April 14, 2000.

d. Applicants: Kings Falls Power Corporation and Tug Hill Energy, Inc.

e. Name of Project: Kings Falls Hydroelectric Project.

f. Location: On the Deep River, in Lewis County, New York near the towns of Copenhagen and West Carthage. The project does not utilize federal or tribal lands.

g. Filed Pursuant to: Federal Power Act, 16 U.S.C. 791(a)-825(r).

h. Applicant Contacts: Kings Falls, (a) F. Michael Tucker, Kings Falls Corporation c/o Mercer Companies, Inc., 3 E-Comm2, Albany, New York 12207, (518) 434-1311 (b) William J. Madden, Jr., John A. Whittaker IV, Winston & Strawn, 1400 L Street, NW, Washington, DC 20005-3502, (202) 371-5700, Tug Hill, (a) John J. Furman, President, Tug Hill Energy, Inc., 200 High Street, Suite 3B, Windsor, Connecticut, 06095-1100, (860) 688-2977, (b) Addison F. Vars III, Mentor, Rudin & Trivelpiece, P.C., 120 Washington Street, Suite 500, Watertown, New York 13601-3300, (315) 786-7950.

i. FERC Contact: Any questions on this notice should be addressed to Mr. Lynn R. Miles, Sr. at (202) 219-2671, or e-mail address: lynn.miles@ferc.fed.us.

j. Deadline for filing comments and/or motions: May 31, 2000.

All documents (original and eight copies) should be filed with: David P. Boergers, Secretary, Federal Energy Regulatory Commission, 888 First Street, NE, Washington, DC 20426.

Please include the project number (7352-024) on any comments or motions filed.

k. Description of Request: Kings Fall Power Corporation (transferor) and Tug Hill Energy, Inc. (transferee) jointly request to close all underlying transactions regarding the Kings Falls Hydroelectric Project. Both applicants further state that due to the financial commitments relating to the sale of the project they both desire to have the Commission to issue an Order Approving Transfer of License no later than June 30, 2000.

l. Locations of the Application: A copy of the application is available for inspection and reproduction at the Commission's Public Reference Room, located at 888 First Street, NE, Room 2A, Washington, DC 20426, or by calling (202) 208-1371. This filing may be viewed on http: \\www.ferc.fed.us/online/rims.htm (call (202) 208-2222 for assistance). A copy is also available for inspection and reproduction at the address in item h above.

m. Individuals desiring to be included on the Commission's mailing list should so indicate by writing the Secretary of the Commission.

Comments, Protests, or Motions to Intervene—Anyone may submit comments, a protest, or a motion to intervene in accordance with the requirements of Rules of Practice and Procedure, 18 CFR 385.210, .211, .214. In determining the appropriation actions to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-11356 Filed 5-5-00; 8:45 am]

BILLING CODE 6717-01-M